DEPARTMENT OF HEALTH AND HUMAN SERVICES

Substance Abuse and Mental Health Services Administration

Agency Information Collection Activities; Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2013 National Survey on Drug Use and Health—(OMB No. 0930-0110)—Revision

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

Data from clinical interviews completed in 2008 were combined with the main interview short scale data to develop a predictive model that was applied to the full main sample to estimate SMI. Follow-up clinical interviews continued to be conducted with NSDUH respondents from 2009 to 2012. Data from these interviews were analyzed annually to update the calibration of the screening measure. To maximize trend validity, this model has been applied to 2009-2011 data. With the completion of 1500 clinical interviews in 2012, SAMHSA will have accumulated a large enough sample (4,500) to update and improve the models. Therefore, the MHSS clinical interviewing will be discontinued in 2013.

For the 2013 NSDUH, a few questionnaire changes are proposed. The instrument has been updated to include new questions on military service, medical marijuana, physician substance use screening, and respondent characteristics.

As with all NSDUH/NHSDA surveys conducted since 1999, the sample size of the survey for 2013 will be sufficient to permit prevalence estimates for each of the fifty states and the District of Columbia. The total annual burden estimate is shown below:

Estimated Burden for 2013 NSDUH
Instrument | Number of respondents | Responses per respondent | Hours per response | Total burden hours | Hourly wage rate | Annualized costs
Household Screening | 145,474 | 1 | 0.083 | 12,074 | $14.45 | $174,469
Interview | 67,500 | 1 | 1.000 | 67,500 | 14.45 | 975,375
Screening Verification | 5,400 | 1 | 0.067 | 362 | 14.45 | 5,231
Interview Verification | 10,125 | 1 | 0.067 | 678 | 14.45 | 9,797
Total | 145,474 |  |  | 80,614 |  | 1,164,872

Send comments to Summer King, SAMHSA Reports Clearance Officer, Room 8-1099, One Choke Cherry Road, Rockville, MD 20857 or email a copy at summer.king@samhsa.hhs.gov.

Written comments must be received before 60 days after the date of the publication in the Federal Register.

Summer King,
Statistician.

[FR Doc. 2012-8799 Filed 4-11-12; 8:45 am]

BILLING CODE 4162-20-P